DEPARTMENT OF THE INTERIOR

Bureau of Land Management

[NM-090-01-9922-EK]

Proposal of a Supplemental Rule Restricting Recreational and Sport Shooting To Protect Human Health and Safety in the Vicinity of the BLM Lands in Potter County, Texas

AGENCY: Bureau of Land Management, Department of the Interior, Amarillo Field Office, Amarillo, Texas.

ACTION: This notice proposes that on those public lands administered by the BLM in Potter County, Texas, (Sections 33, 34, 35, 36, 37, 38, 39, 40, 41, 42, 43, 45, and 48 in Block 5 of G.M. Survey; Sections 1, 3 and 4 in Block 4 of G.M. Survey; Sections 19, 21, 27, 29 and 35 of Block 21-W of G.C.&S.F.R.R. Survey) firing any handgun, shotgun or rifle is prohibited. Archery hunting with bow and arrow would be allowed pursuant to State of Texas, Parks and Wildlife regulations.

SUMMARY: In accordance with Title 43, Code of Federal Regulations § 8365.1-6, the State Director may establish supplementary rules in order to provide for the protection of persons, property and public lands and resources. Failure to comply with this proposed supplementary rule would be punishable by a fine not to exceed $100,000 and/or imprisonment not exceed 12 months. The environmental effects of the proposed rule will be analyzed separately by Environmental Assessment 090-2001-002.

DATES: Comments must be received in writing to the BLM on or before August 6, 2001.

ADDRESSES: Written comments shall be mailed to the following address: Mr. Paul Tanner, Natural Resource Specialist, Bureau of Land Management, 801 S. Fillmore, Suite 500, Amarillo, Texas 79101-3545.

SUPPLEMENTARY INFORMATION: Uncontrolled shooting on the subject public lands in Potter County, Texas, creates a public health and safety hazard by firing solid projectile firearms, that have a long range, into and about a populated rural area. Portions of the area of concern receive heavy use by ranchers, oil and gas development personnel and BLM employees. This proposed supplemental rule would prohibit the firing of any firearm. By prohibiting all gunfire a safer environment on both public and private lands will be created. This proposed rule only affects public lands administered by BLM. This special rule is in addition to existing rules and regulations previously established under Title 43 Code of Federal Regulations as well as other Federal laws applicable to the use of public lands.

FOR ADDITIONAL INFORMATION CONTACT: BLM Amarillo Field Office, 801 S. Fillmore Street, Suite 500, Amarillo, Texas 79101-3545, telephone (806) 324-2602.

Dated: May 8, 2001.
M.J. Chavez,
State Director.

[FR Doc. 01-16877 Filed 7-5-01; 8:45 am]

BILLING CODE 4310-84-M